DEPARTMENT OF DEFENSE

Office of the Secretary

[Docket ID DOD-2018-OS-0001]

Submission for OMB Review; Comment Request

AGENCY: Office of the Under Secretary of Defense, DoD.

ACTION: 30-day information collection notice.

SUMMARY: The Department of Defense has submitted to OMB for clearance the following proposal for collection of information under the provisions of the Paperwork Reduction Act.

DATES: Consideration will be given to all comments received by April 27, 2018.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Fred Licari, 571-372-0493, or whs.mc-alex.esd.mbx.dd-dod-information-collections@mail.mil.

SUPPLEMENTARY INFORMATION:

Title; Associated Form; and OMB Number: Personnel Security Investigation Projection for Industry Census Survey; OMB Control Number 0704-0417.

Type of Request: Revision.

Number of Respondents: 10,421.

Responses per Respondent: 1.

Annual Responses: 10,421.

Average Burden per Response: 30 minutes.

Annual Burden Hours: 5,210.50.

Needs and Uses: Executive order (E.O.) 12829, “National Industrial Security Program (NISP),” stipulates that the Secretary of Defense shall serve as the Executive Agent for inspecting and monitoring the contractors, licensees, and grantees who require or will require access to classified information; and for determining the eligibility for access to classified information of contractors, licensees, and grantees and their respective employees. The Under Secretary of Defense for Intelligence assigned Defense Security Service (DSS) the responsibility for central operational management of NISP personnel security investigation (PSI) workload projections, and for monitoring of NISP PSI funding and investigations. The execution of the collection instrument is an essential element of DSS' ability to plan, program and budget for the PSI needs of NISP personnel security investigations.

Affected Public: Businesses or other for-profit, not-for-profit institutions, state, local or tribal governments.

Frequency: Annually.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Frederick Licari.

Written requests for copies of the information collection proposal should be sent to Mr. Licari at WHS/ESD Directives Division, 4800 Mark Center Drive, East Tower, Suite 03F09, Alexandria, VA 22350-3100.

Dated: March 23, 2018.
Aaron Siegel,
Alternate OSD Federal Register, Liaison Officer, Department of Defense.

[FR Doc. 2018-06238 Filed 3-27-18; 8:45 am]

BILLING CODE 5001-06-P